DEPARTMENT OF AGRICULTURE

Forest Service

Notice of Idaho Panhandle Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Idaho Panhandle National Forests' Idaho Panhandle Resource Advisory Committee will meet Friday, March 22, 2002 in Coeur d'Alene, Idaho for a business meeting. The meeting is open to the public.

DATES: March 22, 2002.

ADDRESSES: The meeting location is the Idaho Panhandle National Forests' Supervisor's Office, located at 3815 Schreiber Way, Coeur d'Alene, Idaho 83815.

FOR FURTHER INFORMATION CONTACT: Ranotta K. McNair, Forest Supervisor and Designated Federal Officer, at (208) 765-7369.

SUPPLEMENTARY INFORMATION: Agenda topics include hearing presentations of project proposals, review of project proposals and receiving public comment.

Dated: March 4, 2002.
Pat L. Aguilar,
Deputy Forest Supervisor.

[FR Doc. 02-5564 Filed 3-7-02; 8:45 am]

BILLING CODE 3410-11-M